FEDERAL COMMUNICATIONS COMMISSION

47 CFR Part 73

[MB Docket No. 12-352; RM-11686; DA 13-315]

Radio Broadcasting Services; Dove Creek, Colorado

AGENCY: Federal Communications Commission.

ACTION: Final rule.

SUMMARY: The Audio Division, at the request of Cochise Media Licenses, LLC, allots FM Channel 229C3 as a first local transmission service at Dove Creek, Colorado. Channel 229C3 can be allotted at Dove Creek, consistent with the minimum distance separation requirements of the Commission's rules, at coordinates 37-48-05 NL and 108-59-33 WL. See SUPPLEMENTARY INFORMATION infra.

DATES: Effective July 22, 2013.

FOR FURTHER INFORMATION CONTACT: Deborah Dupont, Media Bureau, (202) 418-2180.

SUPPLEMENTARY INFORMATION: This is a synopsis of the Commission's Report and Order, MB Docket No. 12-352, adopted February 28, 2013, and released March 1, 2013. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see U.S.C. 801(a)(1)(A).

List of Subjects in 47 CFR Part 73

Radio, Radio broadcasting.

Federal Communications Commission.
Nazifa Sawez,
Chief, Audio Division, Media Bureau.

For the reasons discussed in the preamble, the Federal Communications Commission amends 47 CFR part 73 as follows:

PART 73—RADIO BROADCAST SERVICES

1. The authority citation for Part 73 continues to read as follows:

Authority: 47 U.S.C. 154, 303, 334, 336 and 339.

§ 73.202 [Amended]

2. Section 73.202(b), the Table of FM Allotments under Colorado, is amended by adding Dove Creek, Channel 229C3.

[FR Doc. 2013-14762 Filed 6-20-13; 8:45 am]

BILLING CODE 6712-01-P